NATIONAL FOUNDATION ON THE ARTS AND THE HUMANITIES

Meetings of Humanities Panel

AGENCY: National Endowment for the Humanities.

ACTION: Notice of meetings.

SUMMARY: The National Endowment for the Humanities will hold nine meetings of the Humanities Panel, a Federal advisory committee, during September, 2017. The purpose of the meetings is for panel review, discussion, evaluation, and recommendation of applications for financial assistance under the National Foundation on the Arts and Humanities Act of 1965.

DATES: See Supplementary Information section for meeting dates. The meetings will open at 8:30 a.m. and will adjourn by 5:00 p.m. on the dates specified below.

ADDRESSES: The meetings will be held at Constitution Center at 400 7th Street SW., Washington, DC 20506, unless otherwise indicated.

FOR FURTHER INFORMATION CONTACT: Elizabeth Voyatzis, Committee Management Officer, 400 7th Street SW., Room, 4060, Washington, DC 20506; (202) 606-8322; evoyatzis@neh.gov.

SUPPLEMENTARY INFORMATION: Pursuant to section 10(a)(2) of the Federal Advisory Committee Act (5 U.S.C. App.), notice is hereby given of the following meetings:

1. Date: September 5, 2017

This meeting will discuss applications for the Humanities Initiatives at Historically Black Colleges and Universities grant program, submitted to the Division of Education Programs.

2. Date: September 6, 2017

This meeting will discuss applications for the Humanities Initiatives at Hispanic-Serving Institutions grant program, submitted to the Division of Education Programs.

3. Date: September 6, 2017

This meeting will discuss applications on the subjects of Art and Culture for Digital Projects for the Public: Production Grants, submitted to the Division of Public Programs.

4. Date: September 7, 2017

This meeting will discuss applications on the subject of U.S. History for Digital Projects for the Public: Production Grants, submitted to the Division of Public Programs.

5. Date: September 7, 2017

This meeting will discuss applications for the Humanities Initiatives at Hispanic-Serving Institutions grant program, submitted to the Division of Education Programs.

6. Date: September 8, 2017

This meeting will discuss applications for the Humanities Initiatives at Hispanic-Serving Institutions grant program, submitted to the Division of Education Programs.

7. Date: September 11, 2017

This meeting will discuss applications on the subject of U.S. History for Digital Projects for the Public: Production Grants, submitted to the Division of Public Programs.

8. Date: September 12, 2017

This meeting will discuss applications on the subjects of Mobile and Place-Based projects for Digital Projects for the Public: Production Grants, submitted to the Division of Public Programs.

9. Date: September 14, 2017

This meeting will discuss applications on the subjects of World History and Art for Digital Projects for the Public: Production Grants, submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: August 16, 2017.
Elizabeth Voyatzis,
Committee Management Officer.

[FR Doc. 2017-17584 Filed 8-18-17; 8:45 am]

BILLING CODE 7536-01-P